DEPARTMENT OF HEALTH AND HUMAN SERVICES

Centers for Disease Control and Prevention

[60 Day-04-33]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-E11, Atlanta, GA 30333. Written comments should be received within 60 days of this notice.

Proposed Project—Community Guide Surveillance and Evaluation Survey—New—Epidemiology Program Office (EPO), Centers for Disease Control and Prevention (CDC).

The Community Guide Surveillance and Evaluation Survey will be used to collect information about the degree to which segments of the target audience for the Guide to Community Preventive Services (Community Guide) is aware of and using findings in public health planning decisions. Public health practitioners, including state and local health officials and faculty from schools of public health throughout the United States and its territories, will be invited to participate. The Community Guide is based on systematic reviews of published evidence of effectiveness of selected population based interventions across a range of health topics. The data from this survey will be used to assess familiarity with, understanding of use, and dissemination of findings from the Community Guide. The results of this study will be used by the independent Task Force on Community Preventive Services and staff supporting the Task Force from the Centers for Disease Control and Prevention to improve dissemination and use of Community Guide reviews and recommendations. The sample will include 9 people from each of the 56 states and territories, including Puerto Rico, Guam, U.S. Virgin Islands, and the Northern Mariana Islands, for a total sample size of 504 people. The total annual burden estimate is 101 hours. The survey will be administered annually, contingent on availability of funds, through a Web-based format.

Respondents | Number of respondents | Number of responses per respondent | Average burden per response (in hours) | Total burden (in hours)
Public Health Practitioners | 504 | 1 | 12/60 | 101
Total |  |  |  | 101

Dated: March 8, 2004.
Alvin Hall,
Director, Management Analysis and Services Office, Centers for Disease Control and Prevention.

[FR Doc. 04-5739 Filed 3-12-04; 8:45 am]

BILLING CODE 4163-18-P